DEPARTMENT OF THE INTERIOR

National Park Service

Notice of Inventory Completion: The Public Museum, Grand Rapids, MI

AGENCY: National Park Service, Interior.

ACTION: Notice.

Notice is here given in accordance with the Native American Graves Protection and Repatriation Act (NAGPRA), 25 U.S.C. 3003, of the completion of an inventory of human remains in the possession of The Public Museum, Grand Rapids, MI. The human remains were removed from the vicinity of Santa Barbara, Santa Barbara County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by The Public Museum's professional staff in consultation with professional staff of the University of California at Santa Barbara, Santa Barbara, CA, and with the Santa Ynez Band of Chumash Mission Indians of the Santa Ynez Reservation, California.

At an unknown date, human remains representing a minimum of three individuals were removed from the vicinity of Santa Barbara, Santa Barbara County, CA. In June 1917, The Public Museum purchased collections from E.H. Crane that contained these individuals. No known individuals were identified. No associated funerary objects are present.

The human remains consist of the partial crania from two adult individuals and a relatively complete cranium from a third individual. Museum accession records indicate the human remains originated from the Santa Barbara area. There were no associated funerary objects or other records to use as a basis for dating the human remains. It is the expert opinion of Dr. Phil Watson, Anthropologist from the University of California at Santa Barbara, that the human remains are affiliated with the Santa Ynez Tribe of Mission Indians, based on demonstrated cultural continuity for this group in the Santa Barbara area for 6,000 years. Based on the expert opinion and other information supplied by Dr. Watson, as well as tribal consultation evidence, officials of The Public Museum reasonably believe the human remains are Native American and culturally affiliated to the Santa Ynez Band of Chumash Mission Indians of the Santa Ynez Reservation, California.

Officials of The Public Museum have determined that, pursuant to 25 U.S.C. 3001 (9-10), the human remains described above represent the physical remains of three individuals of Native American ancestry. Officials of The Public Museum have also determined that, pursuant to 25 U.S.C. 3001 (2), there is a relationship of shared group identity that can be reasonably traced between the Native American human remains and the Santa Ynez Band of Chumash Mission Indians of the Santa Ynez Reservation, California.

Representatives of any other Indian tribe that believes itself to be culturally affiliated with the human remains should contact Marilyn Merdzinski, Director of Collections and Preservation, The Public Museum, 272 Pearl St. NW., Grand Rapids, MI 49504, telephone (616) 456-3521, before September 21, 2009. Repatriation of the human remains to the Santa Ynez Band of Chumash Mission Indians of the Santa Ynez Reservation, California may proceed after that date if no additional claimants come forward.

The Public Museum is responsible for notifying the Santa Ynez Band of Chumash Mission Indians of the Santa Ynez Reservation, California that this notice has been published.

Dated: July 9, 2009.
Sherry Hutt,
Manager, National NAGPRA Program.

[FR Doc. E9-19979 Filed 8-19-09; 8:45 am]

BILLING CODE 4312-50-S